DEPARTMENT OF HEALTH AND HUMAN SERVICES

National Institutes of Health

Notice of Intent To Prepare an Environmental Impact Statement for the Transport of Laboratory Personnel Exposed to Infectious Agents From Fort Detrick, Frederick, MD to the National Institutes of Health Clinical Center, Bethesda, MD

SUMMARY: In accordance with the National Environmental Policy Act, 42 U.S.C. 4321-4347, the NIH is issuing this notice to advise the public that an environmental impact statement will be prepared for the transport of laboratory personnel exposed to infectious agents from Fort Detrick, Frederick, Maryland to the National Institutes of Health Clinical Center, Bethesda, Maryland.

FOR FURTHER INFORMATION CONTACT: Valerie Nottingham, Chief, Environmental Quality Branch, Division of Environmental Protection, Office of Research Facilities, NIH, B13/2S11, 9000 Rockville Pike, Bethesda, Maryland 20892, telephone 301-496-7775; fax 301-480-8056; or e-mail nihnepa@mail.nih.gov.

SUPPLEMENTARY INFORMATION: Fort Detrick is a U.S. Army Medical Command installation located in Frederick, Maryland, USA. Its 1,200 acres support a multi-governmental community that conducts biomedical research and development, medical material management, global medical communications and the study of foreign plant pathogens. It is home to the U.S. Army Medical Research and Materiel Command (USAMRMC), with its U.S. Army Medical Research Institute of Infectious Diseases (USAMRIID), as well as to the National Cancer Institute-Frederick (NCI-Frederick). It is the home of the National Interagency Biodefense Campus.

The National Institute of Allergy and Infectious Diseases (NIAID), a component of NIH, will be the occupant of an Integrated Research Facility (IRF) currently being built at Fort Detrick as part of the National Interagency Biodefense Campus. The IRF will contain bio-safety level -2, -3, and -4 laboratory and animal research facilities for conducting biodefense and emerging infectious disease research. This laboratory will allow NIH to address a critical national shortage in bio-safety level-4 (BSL-4) capability.

The Clinical Center at the National Institutes of Health (NIH) in Bethesda, Maryland, is the nation's largest hospital devoted entirely to clinical research. It is a national resource that makes it possible to rapidly translate scientific observations and laboratory discoveries into new approaches for diagnosing, treating, and preventing disease. Approximately 1,500 studies are in progress at the NIH Clinical Center. Most are Phase I and Phase II clinical trials.

More than 350,000 patients, from all 50 states and throughout the world, have participated in clinical research at the Clinical Center since it opened in 1953. The Clinical Center promotes translational research—that is, the transference of scientific laboratory research into applications that benefit patient health and medical care. The “bench-to-bedside” approach adopted in 1953 locates patient care units in close proximity to cutting-edge laboratories doing related research. This facilitates interaction and collaboration among clinicians and researchers. Most important, patients and families in the Clinical Center benefit from the cutting-edge technologies and research and the compassionate care that are the signature of the NIH.

The Mark O. Hatfield Clinical Research Center (CRC) was opened in 2005. The facility houses inpatient units, day hospitals and research labs and connects to the original Warren Grant Magnuson Clinical Center. Together, the Magnuson and Hatfield buildings form the NIH Clinical Center. They serve the dual role of providing humane and healing patient care and the environment clinical researchers need to advance clinical science. The 870,000-square-foot Hatfield building has 242 inpatient beds and 90 day-hospital stations. This arrangement can be easily adapted to allow more inpatient beds and fewer day-hospital stations, or vice versa, because the new facility's design is highly flexible. The facility has unique ventilation systems that are designed to minimize the spread of infectious disease within the facility and includes isolation rooms equipped with special filtering and containment features.

The proposed action is to transport laboratory personnel in the event of potential exposure to infectious agents from the Fort Detrick Campus to the NIH Clinical Center for monitoring, evaluation, and if necessary, treatment.The CRC is well-equipped to deal with such scenarios, unlikely as they are.

In accordance with 40 CFR 1500-1508 and DHHS environmental procedures, NIH will prepare an Environmental Impact Statement (EIS) for the proposed transport of laboratory personnel exposed to infectious agents from the Fort Detrick Campus to the NIH Clinical Center for monitoring, evaluation, and if necessary, treatment.

Among the items the EIS will examine are the implications of the proposed action on human health, traffic and transportation, and other public services. To ensure that the public is afforded the greatest opportunity to participate in the planning and environmental review process, NIH is inviting oral and written comments on the proposed action and related environmental issues.

The NIH will be sponsoring two public Scoping Meetings to provide individuals an opportunity to share their ideas on the proposed action, including recommended alternatives and environmental issues the EIS should consider. The first meeting is planned for 6:30 p.m. on July 8, 2008 at the C. Burr Artz Library, 110 East Patrick Street, Frederick, Maryland 21701. The second meeting is planned for 7 p.m. on July 10, 2008 at the Bethesda-Chevy Chase Service Center, 4805 Edgemoor Lane, Bethesda, Maryland 20814. All interested parties are encouraged to attend. NIH has established a 45-day public comment period for the scoping process. Scoping comments must be postmarked no later than August 8, 2008 to ensure they are considered. All comments and questions on the EIS should be directed to Valerie Nottingham at the address listed above, telephone 301-496-7775; fax 301-480-8056; or e-mail nihnepa@mail.nih.gov.

Dated: June 13, 2008.
Daniel Wheeland,
Director, Office of Research Facilities Development and Operations, National Institutes of Health.

[FR Doc. E8-14033 Filed 6-19-08; 8:45 am]

BILLING CODE 4140-01-P